DEPARTMENT OF COMMERCE

National Oceanic and Atmospheric Administration

[I.D. 101102B]

Fraser River Sockeye and Pink Salmon Fisheries; Inseason Orders

AGENCY: National Marine Fisheries Service (NMFS), National Oceanic and Atmospheric Administration (NOAA), Commerce.

ACTION: 2002 inseason orders.

SUMMARY: NMFS publishes the Fraser River salmon inseason orders regulating salmon fisheries in U.S. waters. The orders were issued by the Fraser River Panel (Panel) of the Pacific Salmon Commission (Commission) and subsequently approved and issued by NMFS during the 2002 sockeye and pink salmon fisheries within the U.S. Fraser River Panel Area. These orders established fishing times, areas, and types of gear for U.S. treaty Indian and all-citizen fisheries during the period the Commission exercised jurisdiction over these fisheries. Due to the frequency with which inseason orders are issued, publication of individual orders is impracticable. The 2002 orders are therefore being published in this document to avoid fragmentation.

DATES: Each of the following inseason actions was effective upon announcement on telephone hotline numbers as specified at 50 CFR 300.97(b)(1); those dates and times are listed under SUPPLEMENTARY INFORMATION.

Comments will be accepted through November 18, 2002.

ADDRESSES: Comments may be mailed to D. Robert Lohn, Regional Administrator, Northwest Region, NMFS, 7600 Sand Point Way N.E., BIN C15700-Bldg. 1, Seattle, WA 98115-0070. Information relevant to this document is available for public review during business hours at the office of the Regional Administrator, Northwest Region, NMFS.

FOR FURTHER INFORMATION CONTACT: David Cantillon, 206-526-4140.

SUPPLEMENTARY INFORMATION: The treaty between the Government of the United States of America and the Government of Canada concerning Pacific Salmon was signed at Ottawa on January 28, 1985, and subsequently was given effect in the United States by the Pacific Salmon Treaty Act (Act) at 16 U.S.C. 3631-3644. Under authority of the Act, Federal regulations at 50 CFR part 300 subpart F provide a framework for implementation of certain regulations of the Commission and inseason orders of the Commission's Panel for U.S. sockeye and pink salmon fisheries in the Fraser River Panel Area.

The regulations close the Fraser River Panel Area (U.S.) to U.S. sockeye and pink salmon fishing unless opened by Panel regulation or by inseason regulations published by NMFS that give effect to Panel orders. During the fishing season, NMFS may issue regulations that establish fishing times and areas consistent with the Commission agreements and inseason orders of the Panel. Such orders must be consistent with domestic legal obligations. The Regional Administrator, Northwest Region, NMFS, issues the inseason orders. Official notification of these inseason actions of NMFS is provided by two telephone hotline numbers described at 50 CFR 300.97(b)(1). Inseason orders must be published in the Federal Register as soon as practicable after they are issued. Due to the frequency with which inseason orders are issued, publication of individual orders is impractical. Therefore, the 2002 orders are being published in this document to avoid fragmentation.

The following inseason orders were adopted by the Panel and issued for U.S. fisheries by NMFS during the 2002 fishing season. The times listed are local times, and the areas designated are Puget Sound Management and Catch Reporting Areas as defined in the Washington State Administrative Code at Chapter 220-22.

Order No. 2002-01: Issued 4 p.m., July 19, 2002

Treaty Indian Fisheries

Areas 4B, 5 and 6C: Open for drift gillnets from 12 p.m. (noon) Sunday, July 21, 2002, to 12 p.m. (noon) Wednesday, July 24, 2002.

Order No. 2002-02: Issued 4 p.m., July 23, 2002

Treaty Indian Fisheries

Areas 4B, 5 and 6C: Extended for drift gillnets from 12 p.m. (noon) Wednesday, July 24, 2002, to 12 p.m. (noon) Saturday, July 27, 2002.

Order No. 2002-03: Issued 3 p.m., July 29, 2002

Treaty Indian Fisheries

Areas 4B, 5 and 6C: Open for drift gillnets from 4 p.m. Monday, July 29, 2002, to 12 p.m. (noon) Friday, August 2, 2002.

Areas 6, 7 and 7A: Open for net fishing from 4 a.m to 8 p.m. Wednesday, July 31, 2002.

Order No. 2002-04: Issued 3 p.m., August 1, 2002

All-Citizen Fisheries

Areas 7 and 7A: Purse Seines open from 9 a.m. to 3 p.m. on Friday, August 2, 2002.

Drift Gillnets open from 4 p.m. to 10 p.m. on Friday, August 2, 2002.

Order No. 2002-05: Issued 3 p.m., August 2, 2002

Treaty Indian Fisheries

Areas 4B, 5 and 6C: Open for drift gillnets from 4 p.m. Friday, August 2 to 12 p.m. (noon) Monday, August 5, 2002.

Areas 6, 7 and 7A: Open for net fishing from 6 a.m to 11 p.m. Saturday, August 3, 2002.

All-Citizen Fisheries

Areas 7 and 7A Reef Net: Open for net fishing 5 a.m. Saturday, August 3, 2002, until 9 p.m. Saturday, August 3, 2002, and then again 5 a.m. Sunday, August 4, 2002, until 9 p.m. Sunday, August 4, 2002, and then again 5 a.m. Monday, August 5, 2002, until 9 p.m. Monday, August 5, 2002.

Order No. 2002-06: Issued 3 p.m., August 6, 2002.

Treaty Indian Fisheries

Areas 4B, 5 and 6C: Open for drift gill nets from 4 p.m. Tuesday, August 6, 2002 to 12 p.m. (noon) Friday, August 9, 2002.

All-Citizen Fisheries

Areas 7 and 7A Purse Seine: Open for purse seine in that portion of Area 7 and Area 7A south and east of a line from Iwersen's Dock on Point Roberts to Georgina Point Light at the entrance to Active Pass in British Columbia, from 2 p.m. Thursday, August 8, 2002 to 3 p.m Thursday, August 8, 2002.

Areas 7 and 7A Gill Net: Open for gill net in that portion of Area 7 and Area 7A south and east of a line from Iwersen's Dock on Point Roberts to Georgina Point Light at the entrance to Active Pass in British Columbia, from 4 p.m. Thursday, August 8, 2002 to 8 p.m. Thursday, August 8, 2002.

Order No. 2002-07: Issued 4 p.m., August 9, 2002

Treaty Indian Fisheries

Areas 4B, 5 and 6C: Open for drift gill nets from 4 p.m. Friday, August 9, 2002 to 12 p.m. (noon) Tuesday, August 13, 2002.

Areas 6, 7 and 7A: Open for that portion of Area 6, Area 7 and Area 7A south and east of a line from Iwersen's Dock on Point Roberts to Georgina Point Light at the entrance to Active Pass in British Columbia for net fishing from 5 a.m. to 5 p.m. on Sunday, August 11, 2002.

All-Citizen Fisheries

Non-Treaty Gill Net: Open for that portion of Area 7 and Area 7A south and east of a line from Iwersen's Dock on Point Roberts to Georgina Point Light at the entrance to Active Pass in British Columbia for gill net from 4 p.m. to 8 p.m. on Monday, August 12, 2002.

Non-Treaty Reef Net: Open for that portion of Area 7 and Area 7A south and east of a line from Iwersen's Dock on Point Roberts to Georgina Point Light at the entrance to Active Pass in British Columbia for reef net from 5 a.m. to 9 p.m. on Saturday, August 10, 2002.

Order No. 2002-08: Issued 4 p.m., August 12, 2002

Treaty Indian Fisheries

Areas 4B, 5 and 6C: Open for drift gill nets from 4 p.m. Friday, August 9, 2002, to 6 p.m. Monday, August 12, 2002.

All-Citizen Fisheries

Non-Treaty Gill Net: Open for that portion of Area 7 and Area 7A south and east of a line from Iwersen's Dock on Point Roberts to Georgina Point Light at the entrance to Active Pass in British Columbia for gill net from 4 p.m. to 8 p.m. on Monday, August 12, 2002.

Inseason Order 2002-08 supersedes all previous inseason orders implementing 2002 orders of the Fraser River Panel.

Order No. 2002-09: Issued 5 p.m., August 23, 2002

All-Citizen Fisheries

Non-Treaty Gill Net: Open for that portion of Areas 7 and 7A south and east of a line from Iweresen's Dock on Point Roberts to Georgina Point Light at the entrance to Active Pass in British Columbia as follows:

Area 7A: Open from 8 a.m. to 8 p.m. on Saturday, August 24, 2002, and from 8 a.m. to 8 p.m. on Sunday, August 25, 2002.

Areas 7 and 7A: Open from 8 a.m. to 8 p.m. on Monday, August 26, 2002.

The Assistant Administrator for Fisheries NOAA (AA), finds that good cause exists for the inseason orders to be issued without affording the public prior notice and opportunity for comment under 5 U.S.C. 553(b)(B) as such prior notice and opportunity for comment is impracticable and contrary to the public interest. Prior notice and opportunity for public comment is impracticable because NMFS has insufficient time to allow for prior notice and opportunity for pubic comment between the time the stock abundance information is available to determine how much fishing can be allowed and the time the fishery must open and close in order to harvest the appropriate amount of fish while they are available.

Moreover, such prior notice and opportunity for public comment is contrary to the public interest because not closing the fishery upon attainment of the quota would allow the quota to be exceeded and thus compromise the conservation and allocation objectives established preseason, and it does not allow fishers appropriately controlled access to the available fish at the time they are available.

The AA also finds good cause to waive the 30-day delay in the effective date, required under 5 U.S.C. 553(d)(3), of the inseason orders. A delay in the effective date of the inseason orders would not allow fishers appropriately controlled access to the available fish at that time they are available.

This review is authorized by 50 CFR 300.97, and is exempt from review under Executive Order 12866.

Authority: 16 U.S.C. 3636(b).

Dated: October 25, 2002.
Bruce C. Morehead,
Acting Director, Office of Sustainable Fisheries, National Marine Fisheries Service.

[FR Doc. 02-27874 Filed 10-31-02; 8:45 am]

BILLING CODE 3510-22-S